FEDERAL MARITIME COMMISSION

Notice of Agreement Filed

The Commission hereby gives notice of the filing of the following agreement under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011925.

Title: WHL/Norasia Slot Exchange and Sailing Agreement.

Parties: Wan Hai Lines Ltd. and Norasia Container Lines Limited.

Filing Party: Walter H. Lion, Esq.; McLaughlin & Stern, LLP; 260 Madison Avenue; New York, NY 10016.

Synopsis: The agreement authorizes the parties to share vessel space in the trades between ports in China and South Korea, on the one hand, and ports on the West Coast of the United States.

By Order of the Federal Maritime Commission.
Dated: December 2, 2005.
Bryant L. VanBrakle,
Secretary.

[FR Doc. E5-7004 Filed 12-6-05; 8:45 am]

BILLING CODE 6730-01-P